DEPARTMENT OF ENERGY

Memorandum of Understanding Between the United States Fish and Wildlife Service, Department of the Interior, and the Department of Energy Regarding Implementation of Executive Order 13186, “Responsibilities of Federal Agencies to Protect Migratory Birds”

AGENCIES: Department of Energy.

ACTION: Notice of availability of Memorandum of Understanding.

SUMMARY: The Department of Energy (DOE) and the Department of the Interior (DOI), United States Fish and Wildlife Service (FWS) have entered into a Memorandum of Understanding (MOU), effective August 3, 2006. The purpose of the MOU is to address how both Parties may cooperatively handle migratory bird protection and conservation in accordance with the requirements of the Migratory Bird Treaty Act (MBTA) and Executive Order (EO) 13186.

FOR FURTHER INFORMATION CONTACT: John Stirling, U.S. Department of Energy, 1000 Independence Avenue, SW. (Room 3G-092), Washington, DC 20585, 202-586-2417.

SUPPLEMENTARY INFORMATION: The MOU addresses how DOE and DOI may cooperatively handle migratory bird protection and conservation and ensure that DOE operations are consistent with the requirements of the Migratory Bird Treaty Act (MBTA) and Executive Order (EO) 13186, “Responsibilities of Federal Agencies to Protect Migratory Birds.” EO 13186 specifically directs Federal agencies whose actions have, or are likely to have, a measurable negative impact on migratory bird populations, to incorporate migratory bird conservation measures into their activities. The MOU serves to strengthen migratory bird protection and conservation through enhanced collaboration between DOE and FWS, and fulfills DOE's obligation under EO 13186.

The MOU identifies specific areas in which cooperation between DOE and FWS will substantially contribute to the conservation and management of migratory birds and their habitats. The MOU establishes protocols to provide the necessary guidance for DOE to incorporate migratory bird protection and conservation more fully into it's programs in accordance with EO requirements.

The complete text of this MOU is available for view on the following Department of Energy Web site: http://www.eh.doe.gov/oepa/data.

Issued at Washington, DC, October 30, 2006.
Andrew C. Lawrence,
Director, Office of Nuclear Safety and Environment, Office of Health, Safety and Security, U.S. Department of Energy.

[FR Doc. 06-9185 Filed 11-9-06; 8:45 am]

BILLING CODE 6450-01-M